DEPARTMENT OF THE TREASURY

Submission for OMB Review; Comment Request

September 12, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

DATES: Written comments should be received on or before October 20, 2003 to be assured of consideration.

Internal Revenue Service (IRS)

OMB Number: 1545-0054.

Form Number: IRS Form 1000.

Type of Review: Extension.

Title: Ownership Certificate.

Description: Form 1000 is used by citizens, resident individuals, fiduciaries, partnerships and nonresident partnerships in connection with interest on bonds of a domestic, resident foreign, or nonresident foreign corporation containing a tax-free covenant and issued before January 1, 1934. IRS uses the information to verify that the correct amount of tax was withheld.

Respondents: Business or other for-profit, individuals or households.

Estimated Number of Respondents/Recordkeepers: 1,500.

Estimated Burden Hours Per Respondent/Recordkeeper: 3 hours, 21 minutes.

Frequency of Response: On occasion.

Estimated Total Reporting/Recordkeeping Burden: 5,040 hours.

OMB Number: 1545-0155.

Form Number: IRS Form 3468.

Type of Review: Extension.

Title: Investment Credit.

Description: Taxpayers are allowed a credit against their income tax for certain expenses they incur for their trades or businesses. Form 3468 is used to compute this investment tax credit. The information collected is used by the IRS to verify that the credit has been correctly computed.

Respondents: Business or other for-profit, individuals or households, not-for-profit institutions, farms.

Estimated Number of Respondents/Recordkeepers: 22,573.

Estimated Burden Hours Per Respondent/Recordkeeper:

Recordkeeping—12 hr., 54 min.

Learning about the law or the form—3 hr., 34 min.

Preparing and sending the form to the IRS—3 hr., 57 min.

Frequency of Response: Annually.

Estimated Total Reporting/Recordkeeping Burden: 461,167 hours.

OMB Number: 1545-0231.

Form Number: IRS Form 6478.

Type of Review: Extension.

Title: Credit for Alcohol Used as Fuel.

Description: Internal Revenue Code (IRC) section 38(b)(3) allows a nonrefundable income tax credit for businesses that sell or use alcohol. Small ethanol producers also receive a nonrefundable credit for production of qualified ethanol. Form 6478 is used to figure the credits.

Respondents: Business or other for-profit.

Estimated Number of Respondents/Recordkeepers: 1,594.

Estimated Burden Hours Per Respondent/Recordkeeper:

Recordkeeping—12 hr., 12 min.

Learning about the law or the form—18 min.

Preparing and sending the form to the IRS—30 min.

Frequency of Response: Annually.

Estimated Total Reporting/Recordkeeping Burden: 20,722 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports Management Officer.

[FR Doc. 03-23947 Filed 9-18-03; 8:45 am]

BILLING CODE 4830-01-P